DEPARTMENT OF EDUCATION

[Docket No.: ED-2024-SCC-0060]

Agency Information Collection Activities; Submission to the Office of Management and Budget for Review and Approval; Comment Request; Regional Educational Laboratory (REL) Southwest Effective Advising Framework Evaluation

AGENCY: Institute of Education Sciences (IES), Department of Education (ED).

ACTION: Notice.

SUMMARY: In accordance with the Paperwork Reduction Act (PRA) of 1995, the Department is proposing a new information collection request (ICR).

DATES: Interested persons are invited to submit comments on or before August 12, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Anousheh Shayestehpour, 202-987-1148.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Regional Educational Laboratory (REL) Southwest Effective Advising Framework Evaluation.

OMB Control Number: 1850-NEW.

Type of Review: A new ICR.

Respondents/Affected Public: Individuals and Households.

Total Estimated Number of Annual Responses: 852.

Total Estimated Number of Annual Burden Hours: 285.

Abstract: By 2030, the Texas Higher Education Coordinating Board expects that 60 percent or more of all new jobs in Texas will require some postsecondary education. However, in 2019, less than half of the Texas population ages 25-34 years (44.3 percent) had some type of postsecondary credential. To close this gap and support districts in meeting the state statute that requires schools to fully develop each student's academic, career, personal, and social abilities, the Counseling, Advising, and Student Supports team (under the Division of College, Career, and Military Preparation) at the Texas Education Agency established the Effective Advising Framework. This framework expands access to effective college and career advising by streamlining and modernizing advising offerings and services for secondary and postsecondary students. The initiative aims to support students in making informed decisions about postsecondary education and careers and to offer professional development to educators and guidance counselors on advising services.

This proposed study will examine the implementation of the Effective Advising Framework across school districts participating in the pilot program. Because it is expected that districts are applying the framework in a variety of ways, the study will examine the variation in implementation across districts, including an analysis of the factors that support or hinder implementation. To do this, the research team will collect data from public education staff at the school, district, and regional levels. Surveys will be administered to gather information on how and what is being implemented at each level and what factors may act as barriers to successful implementation. One-on-one interviews and focus group interviews will be conducted with a subsample of respondents from each level to gather more in-depth information on the successes and challenges they faced in applying the framework. The results of this study will inform the continued development of the framework and the associated resources and supports that will be provided to districts and schools when the initiative is implemented statewide.

Dated: July 9, 2024.
Juliana Pearson,
PRA Coordinator, Strategic Collections and Clearance, Governance and Strategy Division, Office of Chief Data Officer, Office of Planning, Evaluation and Policy Development.

[FR Doc. 2024-15354 Filed 7-11-24; 8:45 am]

BILLING CODE 4000-01-P